DEPARTMENT OF LABOR

Employment and Training Administration

Final Finding of No Significant Impact, New Orleans Job Corps Center Proposed Disposal and Reuse of Excess Property, Located at 8825 Airline Highway, New Orleans, Louisiana

AGENCY: Employment and Training Administration.

ACTION: Final finding of no significant impact.

SUMMARY: The Department of Labor's (DOL) Employment and Training Administration, pursuant to the Council on Environmental Quality Regulations implementing procedural provisions of the National Environmental Policy Act (NEPA), and the Department's own implementing regulations, provides the Department's final determination that the proposed disposal of 10 parcels totaling 0.79 acre of excess property in the residential neighborhood on two city blocks to the west of the New Orleans Job Corps Center campus will not have a significant adverse impact on the environment.

DATES: These findings are effective as of November 12, 2020.

ADDRESSES: Department of Labor, 200 Constitution Avenue NW, Room N-4460, Attn: Jose Velazquez, Washington, DC 20210.

FOR FURTHER INFORMATION CONTACT: Jose Velazquez; Telephone (202) 693-3099 (this is not a toll free number).

SUPPLEMENTARY INFORMATION: A public notice of availability of the draft environmental assessment (EA), which determined that the disposal of .79 acres of excess property near the New Orleans Job Corps Center would not have a significant impact on the environment, was published in the New Orleans Advocate in New Orleans, Louisiana, on November 25, 2019. The review period extended for 15 days, ending on December 10, 2019. No public comments were received. No changes to the findings of the EA have been made.

Implementation of the proposed action alternative will not have significant impacts on the human environment. The determination is sustained by the analysis in the EA, agency, and Native American tribal consultation, the inclusion and consideration of public review, and the capability of mitigations to reduce or avoid impacts. Any adverse environmental effects that could occur are no more than minor in intensity, duration and context and less-than-significant. As described in the EA, there are no highly uncertain or controversial impacts, unique or unknown risks, significant cumulative effects, or elements of precedence. There are no previous, planned, or implemented actions, which, in combination with the proposed action alternative, would have significant effects on the human environment. Requirements of NEPA have been satisfied, and preparation of an Environmental Impact Statement is not required.

John Pallasch,
Assistant Secretary for Employment and Training, Labor.

[FR Doc. 2020-24975 Filed 11-10-20; 8:45 am]

BILLING CODE 4510-FN-P